DEPARTMENT OF STATE

Delegation of Authority No. 613

Delegation of Authority

Executive Order 14204

By the virtue of the authority vested in the Secretary of State, including section 1 of the State Department Basic Authorities Act (22 U.S.C. 2651a), and E.O. 14204 of February 7, 2025, I hereby delegate to the Under Secretary for Foreign Assistance, Humanitarian Affairs, and Religious Freedom, to the extent authorized by law, the authority under section 3 of E.O. 14204 to permit the provision of foreign aid or assistance that, in the discretion of the relevant agency head, is necessary or appropriate.

Any act, executive order, regulation, or procedure subject to, or affected by, this delegation shall be deemed to be such act, executive order, regulation, or procedure as amended from time to time.

The Secretary, the Deputy Secretary, or the Deputy Secretary for Management and Resources may at any time exercise any authority or function delegated herein.

This delegation of authority shall be published in the Federal Register.

Dated: December 15, 2025.
Marco Rubio,
Secretary of State, U.S. Department of State.

[FR Doc. 2026-02752 Filed 2-10-26; 8:45 am]

BILLING CODE 4710-26-P